DEPARTMENT OF TRANSPORTATION

Federal Aviation Administration

14 CFR Part 121

[Docket No.: FAA-2005-22915; Amendment No. 121-322]

RIN 2120-ai65

Supplemental Oxygen

AGENCY: Federal Aviation Administration, DOT.

ACTION: Direct final rule; withdrawal.

SUMMARY: On November 10, 2005, the Federal Aviation Administration (FAA) published a direct final rule to amend its regulation on the use of pilot supplemental oxygen with an effective date of January 9, 2006. The FAA received an adverse comment from the National Transportation Safety Board stating that the FAA relied on time of useful consciousness data that did not represent actual pilot performance under realistic decompression conditions. In accordance with § 11.31, which states if the FAA receives an adverse comment it will notify the public by publishing a document in the Federal Register, the FAA is using this notice to withdraw this direct final rule in whole.

DATES: The direct final rule published at 70 FR 68330, November 10, 2005, is withdrawn, effective January 6, 2006.

FOR FURTHER INFORMATION CONTACT: Timothy Adams, Airmen and Airspace Rules Division (ARM-100), Office of Rulemaking, Federal Aviation Administration, 800 Independence Avenue, SW., Washington, DC 20591; Telephone No. (202) 267-9680.

List of Subjects in 14 CFR Part 121

Air carriers, Aircraft, Aviation Safety, Reporting and recordkeeping requirements, Safety, Transportation.

The Amendment

In consideration of the foregoing, the Federal Aviation Administration withdraws the direct final rule published at 70 FR 68330 on November 10, 2005.

Issued in Washington, DC, on January 3, 2006.
Marion C. Blakey,
Administrator.

[FR Doc. 06-241 Filed 1-6-06; 1:32 pm]

BILLING CODE 4910-13-P